DEPARTMENT OF ENERGY

Bonneville Power Administration

Electrical Interconnection of the Lower Snake River Wind Energy Project

AGENCY: Bonneville Power Administration (BPA), Department of Energy (DOE).

ACTION: Notice of Availability of Record of Decision (ROD).

SUMMARY: The Bonneville Power Administration (BPA) has decided to offer Puget Sound Energy Inc., a Large Generator Interconnection Agreement for interconnection of up to 1250 megawatts of power into the Federal Columbia River Transmission System. The power would be generated from their proposed Lower Snake River Wind Energy Project (Wind Project) in Garfield and Columbia counties, Washington. To interconnect the Wind Project, BPA will construct a new substation (Central Ferry Substation) on the Little Goose-Lower Granite 500-kilovolt transmission lines near the Port of Central Ferry, Washington. This decision to interconnect the Wind Project is consistent with and tiered to BPA's Business Plan Environmental Impact Statement (DOE/EIS-0183, June 1995), and the Business Plan Record of Decision (BP ROD, August 1995).

ADDRESSES: Copies of this tiered ROD and the Business Plan EIS may be obtained by calling BPA's toll-free document request line, 1-800-622-4520. The RODs and EIS are also available on our Web site, http://www.efw.bpa.gov.

FOR FURTHER INFORMATION CONTACT: Tish Eaton, Bonneville Power Administration—KEC-4, P.O. Box 3621, Portland, Oregon 97208-3621; toll-free telephone number 1-800-622-4519; fax number 503-230-5699; or e-mail tkeaton@bpa.gov.

Issued in Portland, Oregon, on January 28, 2010.
Stephen J. Wright,
Administrator and Chief Executive Officer.

[FR Doc. 2010-2518 Filed 2-4-10; 8:45 am]

BILLING CODE 6450-01-P